DEPARTMENT OF HOUSING AND URBAN DEVELOPMENT

[Docket No. FR-5172-N-01]

Disaster Housing Assistance Program (DHAP)

AGENCY: Office of the Assistant Secretary for Public and Indian Housing, HUD.

ACTION: Notice.

SUMMARY: This document provides notice that HUD and the Federal Emergency Management Agency (FEMA) have executed an Interagency Agreement (IAA) establishing a pilot grant program called the Disaster Housing Assistance Program (DHAP), and that the operating requirements for the DHAP have been issued through HUD Notice. DHAP is a joint initiative undertaken by HUD and FEMA to provide monthly rent subsidies and case management services for individuals and families displaced by Hurricane Katrina or Hurricane Rita who were not receiving housing assistance from HUD prior to the disasters. The operating requirements for the DHAP are found in a HUD Notice PIH 2007, issued August 16, 2007. This notice and related program information on the DHAP is available from HUD's Web site at http://www.hud.gov.

To be eligible for DHAP, a family must have been displaced by Hurricane Katrina or Hurricane Rita and consequently is either receiving or is eligible to receive housing assistance from FEMA, and FEMA has determined the family is eligible for DHAP assistance.

HUD will invite public housing agencies (PHAs) that currently administer the Housing Choice Voucher (HCV) Program to administer the DHAP based on several factors such as where the DHAP eligible families are currently residing or have indicated they wish to receive DHAP assistance.

Monthly rental assistance payments under the DHAP will not commence until November 1, 2007. However, PHAs that agree to administer the DHAP will begin providing pre-transitional case management services on or after September 1, 2007, for those families transitioning to the DHAP during the initial implementation phase.

DHAP is a temporary assistance program and will terminate as of March 1, 2009.

FOR FURTHER INFORMATION CONTACT: David A. Vargas, Director, Office of Housing Voucher Programs, Office of Public and Indian Housing, Department of Housing and Urban Development, 451 Seventh Street, SW., Room 4228, Washington, DC 20410; telephone (202) 708-2815 (this is not a toll-free number). Individuals with speech or hearing impairments may access this number through TTY by calling the toll-free Federal Information Relay Service at 800-877-8339.

SUPPLEMENTARY INFORMATION: In late August 2005, Hurricane Katrina struck the Gulf Coast area of the United States causing unprecedented and catastrophic damage to property, significant loss of life, and the displacement of tens of thousands of individuals from their homes and communities. In September 2005, Hurricane Rita closely followed Hurricane Katrina and once again hit the Gulf Coast area of the United States, adding to the damage to property and displacement of individuals and families.

Many families who registered with FEMA were able to receive assistance either through a direct or financial assistance program under the Robert T. Stafford Disaster Relief and Emergency Act (Stafford Act) (42 U.S.C. 5174). Those families that are still receiving assistance from FEMA may receive assistance under the DHAP. The DHAP recognizes that, due to the magnitude of the Gulf Coast hurricanes, many impacted families still require additional housing assistance. As HUD is responsible for administering the HCV Program, the nation's largest tenant-based subsidy program, and has also successfully implemented the Katrina Housing Assistance Payments Program (KDHAP) and the Disaster Voucher Program (DVP), FEMA has requested that HUD design a program that is modeled after those three programs.

In July 2007, HUD and FEMA executed an Interagency Agreement (IAA) under which HUD shall act as the servicing agency of the DHAP. HUD will utilize its existing network of local PHAs to administer the program. These PHAs administer the HCV program and as a result have the necessary local market knowledge and expertise in assisting families through a tenant-based subsidy program. In addition, through their administration of both the KDHAP and DVP, the PHAs are experienced in working with significant numbers of families that have been displaced by disasters.

Pursuant to FEMA's grant authority, grants will be provided to local PHAs to administer DHAP on behalf of FEMA. Under DHAP, PHAs will make rental assistance payments on behalf of eligible families to participating landlords for a period not to exceed 16 months, with all rental assistance payments ending by March 1, 2009.

In order to prepare the family for this eventuality, case management services are provided for the entire duration of DHAP. These case management services include assisting participants to identify non-disaster supported housing solutions such as other affordable housing options that may be available for income eligible families.

In addition, beginning on March 1, 2008, families will be required to pay a portion of rent of $50, which will increase by an additional $50 each subsequent month. This gradual increase in the family share will further prepare the family to assume full responsibility for their housing costs at the end of DHAP.

PHA responsibilities for DHAP include calculating the monthly rent subsidy and making monthly rent subsidy payments on behalf of participating families, performing housing quality standards inspections when necessary, applying appropriate subsidy standards for families, and determining rent reasonableness for certain units. The PHA is also responsible for terminating the family's participation in the DHAP if the family fails to comply with the family obligations of the program.

More detailed information about DHAP and the governing operating requirements for the program can be accessed via the HUD Web site at http://www.hud.gov. Any subsequent revisions or amendments to those requirements and any further supplemental information will also be made available on the above Web site.

Dated: August 14, 2007.
Orlando J. Cabrera,
Assistant Secretary for Public and Indian Housing.

[FR Doc. E7-16271 Filed 8-16-07; 8:45 am]

BILLING CODE 4210-67-P